DEPARTMENT OF JUSTICE

Notice of Application by the Denver Rocky Mountain News and The Denver Post for Approval of a Joint Newspaper Operating Arrangement

AGENCY: Department of Justice.

ACTION: Notice of public's right to comment.

SUMMARY: Notice is hereby given that the Attorney General has received an application for approval of a joint newspaper operating arrangement involving two daily newspapers in Denver, Colorado. The application was filed on May 12, 2000 by The E.W. Scripps Company, whose subsidiary, the Denver Publishing Company, publishes the Denver Rocky Mountain News, and the MediaNews Group, Inc., whose subsidiary, the Denver Post Corporation, publishes The Denver Post. The proposed arrangement provides that the printing and commercial operations of both newspapers would be handled by a third entity, the “Agency” which will be owned by the parties in equal shares. The joint operating agreement provides for the complete independence of the news and editorial departments of the two newspapers.

The Newspaper Preservation Act, 15 U.S.C. 1801 et seq., requires that joint newspaper operating arrangements such as that proposed by the Denver newspapers have the prior written consent of the Attorney General of the United States in order to qualify for the antitrust exemption provided by the Act. Before granting her consent, the Attorney General must find that one of the publications is a failing newspaper and that approval of the arrangement would effectuate the policy and purpose of the Act. Any person with views about the proposed arrangement may file written comments stating the reasons why approval should or should not be granted, or requesting that a hearing be held on the application. A request for hearing must set forth the issues of fact to be determined and the reason that a hearing is believed necessary to determine them.

All correspondence to the Department of Justice, the Attorney General and other Senior Department Officials commenting on the proposed JOA will be placed in the public file and made available as described below.

DATES AND PLACE FOR FILING: Comments shall be filed by mailing or delivering five copies to the Assistant Attorney General for Administration, Justice Management Division, Department of Justice, Washington, DC 20530, and must be received by July 10, 2000. Replies to any comments filed on or before that date may be filed on or before August 8, 2000.

ADDRESSES: In accordance with the Newspaper Preservation Act Regulations, at 28 CFR Part 48, copies of the proposed arrangement and other materials filed by the newspapers in support of the application are available for public inspection in the main offices of the newspapers involved. In addition, these materials plus any filed comments are available for public inspection in the Department of Justice, National Place Building, 1331 Pennsylvania Avenue, NW., Suite 1220, Washington, DC 20530.

FOR FURTHER INFORMATION CONTACT: Stuart Frisch, General Counsel, Justice Management Division, 202-514-3452.

Dated: June 6, 2000.
Stephen R. Colgate,
Assistant Attorney General for Administration.

[FR Doc. 00-14692 Filed 6-8-00; 8:45 am]

BILLING CODE 4410-AR-M